DEPARTMENT OF HEALTH AND HUMAN SERVICES

[Document Identifier: OS-0990-0269]

Agency Information Collection Request. 60-Day Public Comment Request

AGENCY: Office of the Secretary, HHS.

In compliance with the requirement of section 3506(c)(2)(A) of the Paperwork Reduction Act of 1995, the Office of the Secretary (OS), Department of Health and Human Services, is publishing the following summary of a proposed information collection request for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden. To obtain copies of the supporting statement and any related forms for the proposed paperwork collections referenced above, e-mail your request, including your address, phone number, OMB number, and OS document identifier, to Sherette.funncoleman@hhs.gov, or call the Reports Clearance Office on (202) 690-6162. Written comments and recommendations for the proposed information collections must be directed to the OS Paperwork Clearance Officer at the above email address within 60 days.

Proposed Project: Complaint Forms for Discrimination; Health Information Privacy Complaints OMB No. 0990-0269-Extension-Office of Civil Rights.

Abstract: The Office for Civil Rights is seeking approval for a 3 year clearance on a previous collection. Individuals may file written complaints with the Office for Civil Rights when they believe they have been discriminated against by programs or entities that receive Federal financial assistance from the Health and Human Service or if they believe that their right to the privacy of protected health information has been violated.

Annual Number of Respondents: Frequency of submission is record keeping and reporting on occasion.

Estimated Annualized Burden Table
Forms | Type of respondent | Number of respondents | Number of responses per respondent | Average burden hours per response | Total burden hours
Civil Rights Complaint Form | Individuals or households, Not-for-profit institutions | 3037 | 1 | 45/60 | 2278
Health Information Privacy Complaint Form | Individuals or households, Not-for-profit institutions | 8944 | 1 | 45/60 | 6708
Total |  |  |  |  | 8986

Seleda Perryman,
Office of the Secretary, Paperwork Reduction Act Reports Clearance Officer.

[FR Doc. E9-12492 Filed 5-28-09; 8:45 am]

BILLING CODE 4153-01-P